DEPARTMENT OF ENERGY

Federal Energy Regulatory Commission

[Docket No. CP19-52-000]

Natural Gas Pipeline Company of America, LLC; Notice of Schedule for Environmental Review of the Lockridge Extension Pipeline Project

On January 18, 2019, Natural Gas Pipeline Company of America, LLC (Natural) filed an application in Docket No. CP19-52-000 with the Federal Energy Regulatory Commission (FERC or Commission) pursuant to section 7(c) of the Natural Gas Act to construct, operate and maintain new facilities in Ward, Reeves, and Pecos Counties, Texas. The proposed project is known as the Lockridge Extension Pipeline Project (Project) and would provide up to 500 million standard cubic feet per day of firm transportation capacity southbound on Natural's existing system to a new bidirectional interconnect with Trans-Pecos Pipeline, LLC, at the Waha Hub, a major natural gas trading point in the Gulf region.

On February 1, 2019, the Commission issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—May 31, 2019

90-day Federal Authorization Decision Deadline—August 29, 2019

If a schedule change becomes necessary, additional notice will be provided so that the relevant agencies are kept informed of the Project's progress.

Project Description

The Lockridge Extension Pipeline Project would consist of the following facilities:

• approximately 16.8 miles, of new 30-inch-diameter pipeline in Ward, Reeves, and Pecos Counties, Texas;

• a new bidirectional interconnect, including two 10-inch-diameter ultrasonic meter runs and a 30-inch-diameter tap, in Pecos County, Texas; and

• appurtenant and auxiliary facilities, including:

○ two 30-inch-diameter tees, valves, and risers for potential future use;

○ piping and valves to interconnect the pipeline extension to the existing Lockridge Pipeline in Ward County, Texas; and

○ relocating a pig receiver currently at the beginning of the pipeline extension to the end of pipeline extension in Pecos County, Texas.¹

¹ A “pig” is a tool that the pipeline company inserts into and pushes through the pipeline for cleaning the pipeline, conducting internal inspections, or other purposes.

Background

On March 1, 2019, the Commission issued a Notice of Intent to Prepare an Environmental Assessment for the Proposed Lockridge Extension Pipeline Project and Request for Comments on Environmental Issues (NOI). The NOI was sent to affected landowners; federal, state, and local government agencies; elected officials; environmental and public interest groups; Native American tribes; other interested parties; and local libraries and newspapers. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-52), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: March 19, 2019.
Kimberly D. Bose,
Secretary.

[FR Doc. 2019-05602 Filed 3-22-19; 8:45 am]

BILLING CODE 6717-01-P